DEPARTMENT OF THE INTERIOR

Bureau of Land Management

[LLCO956000 L14400000.BJ0000 16X]

Notice of Filing of Plats of Survey; Colorado

AGENCY: Bureau of Land Management, Interior.

ACTION: Notice of Filing of Plats of Survey; Colorado.

SUMMARY: On Tuesday, July 14, 2009, the Bureau of Land Management (BLM) Colorado State Office, published a Notice of Stay of Filing of Plat, in the Federal Register (74 FR 34035) to inform the public of a stay on the proposed filing of the dependent resurvey of the east boundary and a portion of the subdivisional lines in Township 42 North, Range 13 West, New Mexico Principal Meridian, Colorado, accepted on December 22, 2008, pending consideration of the protest and/or appeal that was filed. On May 27, 2016, the Interior Board of Land Appeals affirmed the BLM's decision to dismiss the protest. The BLM Colorado State Office is publishing this notice to inform the public of the intent to officially file the survey plat listed above and afford a proper period of time to protest this action prior to the plat filing. During this time, the plat will be available for review in the BLM Colorado State Office.

DATES: Unless there are protests of this action, the filing of the plat described in this notice will happen on July 11, 2016.

ADDRESSES: BLM Colorado State Office, Cadastral Survey, 2850 Youngfield Street, Lakewood, CO 80215-7093.

FOR FURTHER INFORMATION CONTACT: Randy Bloom, Chief Cadastral Surveyor for Colorado, (303) 239-3856.

Persons who use a telecommunications device for the deaf (TDD) may call the Federal Information Relay Service (FIRS) at 1-800-877-8339 to contact the above individual during normal business hours. The FIRS is available 24 hours a day, seven days a week, to leave a message or question with the above individual. You will receive a reply during normal business hours.

Randy Bloom,
Chief Cadastral Surveyor for Colorado.

[FR Doc. 2016-13659 Filed 6-8-16; 8:45 am]

BILLING CODE 4310-JB-P